DEPARTMENT OF JUSTICE

Notice of Lodging of Consent Decree Pursuant to the Comprehensive Environmental Response, Compensation, and Liability Act, 42 U.S.C. 9601, et seq.

In accordance with Departmental policy, 28 CFR 50.7, notice is hereby given that a proposed Consent Decree in United States and the State of Illinois v. Alpha Construction, et al., Civil Action No. 02 C 3609, was lodged on May 30, 2002, with the United States District Court for the Northern District of Illinois.

The proposed Consent Decree concerns the Lenz Oil Services, Inc. Superfund Site (“Site”) located near the City of Lemont in southwest Du Page County, Illinois. Lenz Oil formerly operated a waste oil and solvent recycling, storage and transfer facility. The Site is approximately 600 feet northwest of the Des Plaines River, partially within a designated flood plain, and includes contiguous areas contaminated by releases of hazardous substances from Lenz Oil Services, Inc., and approximately 1.5 acres of shallow aquifer contamination. Pursuant to the proposed Consent Decree, 47 generators alleged to have arranged for disposal of waste at the Site are resolving their liability to the United States and the State of Illinois under sections 106 and 107(a) of the Comprehensive Environmental Response, Compensation, and Liability Act (“CERCLA”), 42 U.S.C. 9606 and 9607(a), and certain provisions of the Illinois Environmental Protection Act. Twenty-two settlers are cashing out in this settlement, and twenty-five of the settlers will perform work at the Site. The work to be performed is estimated to cost between $8 million and $12.5 million dollars (excluding oversight costs) depending on whether the primary, or one of several contingent remedies is ultimately implemented.

The Department of Justice will receive comments relating to the proposed Consent Decree for a period of thirty (30) days from the date of this publication. Comments should be addressed to the Assistant Attorney General, Environmental and Natural Resources Division, United States Department of Justice of Department of Justice, and sent: (1) By first class mail c/o Chief, Environmental Enforcement Section, P.O. Box 7611, Washington, DC; and/or (2) by facsimile to (202) 353-0296; and/or (3) by overnight delivery, other than through the U.S. Postal Service, to Chief, Environmental Enforcement Section, 1425 New York Avenue, NW., 13th Floor, Washington, DC 20005. Each communication should refer on its face to United States and the State of Illinois v. Alpha Construction Co., et al., DJ #90-11-3-1767.

The proposed Consent Decree may be examined at the office of the United States Attorney for the Northern District of Illinois, 219 So. Dearborn Street, Chicago, Illinois 60604, at the Region 5 office of the Environmental Protection Agency, 77 West Jackson Blvd., 7th Floor, Chicago, Illinois 60604, and at the Lemont Village Hall, 508 Lemont Street, Lemont, Illinois 60439. A copy of the proposed Consent Decree may also be obtained by faxing a request to Tonia Fleetwood, Department of Justice Consent Decree Library, fax no. (202) 616-6584; phone confirmation no. (202) 514-1547. There is a charge for the copy (25 cents per page reproduction cost). Upon requesting a copy, please mail a check payable to the “U.S. Treasury,” in the amount of $96.75 for the proposed Consent Decree with all attachments, or for $32.35 for the proposed Consent Decree only, to: Consent Decree Library, U.S. Department of Justice, P.O. Box 7611, Washington, DC 20044-7611. The check should refer to United States and the State of Illinois v. Alpha Construction Co., et al., DJ #90-11-3-1767.

William Brighton,
Assistant Section Chief, Environmental Enforcement Section.

[FR Doc. 02-15234 Filed 6-17-02; 8:45 am]

BILLING CODE 4410-15-M